NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before November 16, 2009. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Agriculture, Food Safety and Inspection Service (N1-462-09-4, 1 item, 1 temporary item). Master files associated with an electronic information system used to process questions submitted by consumers via the agency Web site.

2. Department of Agriculture, Grain Inspection, Packers and Stockyards Administration (N1-545-08-4, 18 items, 12 temporary items). Records relating to communications and information dissemination. Included are such records as files relating to outreach activities, publications dealing with routine operational matters, background materials relating to projects, and case files on projects that do not set a precedent. Proposed for permanent retention are such records as policy files, annual reports, speeches, and publications. The proposed disposition instructions are limited to paper records.

3. Department of Health and Human Services, Centers for Medicare and Medicaid Services (N1-440-09-2, 1 item, 1 temporary item). Master files of an electronic information system that contains documentation related to public complaints pertaining to the Health Insurance Portability and Accountability Act.

4. Department of Justice, Justice Management Division (N1-60-09-28, 1 item, 1 temporary item). Master files for an electronic information system used to manage agency financial matters.

5. Department of Justice, Office of the Inspector General (N1-60-09-34, 2 items, 2 temporary items). Inputs and master files for a tracking system used for correspondence relating to administrative management and planning.

6. Department of State, Bureau of Consular Affairs (N1-59-09-39, 2 items, 2 temporary items). Master files and outputs for an electronic information system used to support management and budget functions for overseas posts.

7. Department of State, Bureau of East Asian and Pacific Affairs (N1-59-09-8, 3 items, 2 temporary items). Subject files relating to economic matters and trade and administrative files relating to Asia-Pacific Economic Cooperation. Substantive files relating to Asia-Pacific Economic Cooperation are proposed for permanent retention.

8. Department of Transportation, National Highway Traffic Safety Administration (N1-416-09-1, 1 item 1 temporary item). Master files associated with an electronic information system used to maintain data concerning problem drivers.

9. Department of the Treasury, Community Development Financial Institution (N1-56-09-9, 3 items, 3 temporary items). Master files, outputs, and system documentation associated with an electronic information system used to create and review contracts for monetary allocations.

10. Department of the Treasury, Community Development Financial Institution (N1-56-09-10, 3 items, 3 temporary items). Master files, outputs, and system documentation associated with an electronic information system used to track the usage of funds granted through awards and allocations.

11. Department of the Treasury, Community Development Financial Institution (N1-56-09-15, 3 items, 3 temporary items). Master files, outputs, and system documentation associated with an electronic information system used to monitor compliance with monetary award agreements.

12. Department of the Treasury, Community Development Financial Institution (N1-56-09-16, 3 items, 3 temporary items). Master files, outputs, and system documentation associated with a web-based electronic information system used to communicate with applicants, awardees, and financial institutions.

13. Department of the Treasury, Community Development Financial Institution (N1-56-09-17, 4 items, 4 temporary items). Master files, inputs, outputs, and system documentation associated with an electronic information system used to track the status of monetary awards from the application phase through disbursement of funds.

14. Department of the Treasury, Internal Revenue Service (N1-58-09-28, 2 items, 2 temporary items). Master files and system documentation associated with an electronic information system used to store and update E-File applications and related data.

15. Department of the Treasury, Internal Revenue Service (N1-58-09-30, 8 items, 8 temporary items). Master files, outputs, system documentation, and other records associated with an electronic information system used to verify the accuracy of settlement notices.

16. Department of the Treasury, Internal Revenue Service (N1-58-09-53, 3 items, 3 temporary items). Master files, inputs, and system documentation associated with an electronic information system used to allow tax professionals to request and view taxpayer information.

17. Department of the Treasury, Internal Revenue Service (N1-58-09-56, 5 items, 5 temporary items). Master files, inputs, outputs, and system documentation associated with an electronic information system used to analyze information obtained from financial institutions in order to identify individuals with illegal off-shore accounts.

18. Department of the Treasury, Internal Revenue Service (N1-58-09-68, 3 items, 3 temporary items). Master files, outputs, and system documentation associated with an electronic information system used to identify individuals who have not filed tax returns and to determine if they should receive notices of failure to file.

19. Department of the Treasury, Internal Revenue Service (N1-58-09-69, 2 items, 2 temporary items). Master files and system documentation associated with an electronic information system which contains data concerning electronic tax filers that is gathered as part of efforts to expand the use of electronic filing.

20. Department of the Treasury, Internal Revenue Service (N1-58-09-70, 4 items, 4 temporary items). Master files, inputs, outputs, and system documentation associated with an electronic information system which contains demographic information used in connection with marketing and product development related to electronic tax filing.

21. Department of the Treasury, Internal Revenue Service (N1-58-09-71, 3 items, 3 temporary items). Master files, outputs, and system documentation associated with an electronic information system used to process and issue refunds to taxpayers for photocopying fees.

22. Department of the Treasury, Internal Revenue Service (N1-58-09-72, 3 items, 3 temporary items). Master files, outputs, and system documentation associated with an electronic information system used to generate and manage temporary taxpayer identification numbers.

23. Department of the Treasury, Internal Revenue Service (N1-58-09-81, 4 items, 4 temporary items). Master files, outputs, and system documentation associated with an electronic information system used to manage taxpayer cases involving hardship and other critical tax problems.

24. Department of the Treasury, Internal Revenue Service (N1-58-09-82, 3 items, 3 temporary items). Master files, outputs, and system documentation associated with an electronic information system which receives data from various submission processing systems and prepares data for further processing.

25. Department of the Treasury, Internal Revenue Service (N1-58-09-83, 3 items, 3 temporary items). Master files, outputs, and system documentation associated with an electronic information system used to select taxpayer notices for quality review and compose corrected notices.

26. Court Services and Offender Supervision Agency, Pre-Trial Services Agency (N1-562-09-1, 1 item, 1 temporary item). Initial interview files of defendants who are apprehended but not charged.

27. Environmental Protection Agency, Agency-wide (N1-412-08-6, 4 items, 3 temporary items). Records relating to the issuance of permits, including minor pollutant discharge elimination permits, dredging and fill permits, and underground injection control permits when the agency is not the permitting authority. Underground injection control permits where the agency is the permitting authority are proposed for permanent retention.

28. Export-Import Bank of the United States, Chief Information Office (N1-275-09-1, 1 item, 1 temporary item). Master files associated with an electronic information system used to provide access to scanned images of documents relating to transactions.

Dated: October 13, 2009.
Michael J. Kurtz,
Assistant Archivist for Records Services—Washington, DC.

[FR Doc. E9-25068 Filed 10-15-09; 8:45 am]

BILLING CODE 7515-01-P